FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012037-005.

Title: Maersk Line/CMA CGM Transatlantic Space Charter Agreement.

Parties: A.P. Moller-Maersk A/S and CMA CGM S.A.

Filing Party: Wayne R. Rohde, Esq.; Cozen O'Connor; 1627 I Street NW., Suite 1100; Washington, DC 20006-4007.

Synopsis: The amendment reflects the termination of the chartering of space from within Maersk's allocation on one service and revises the amount of space to be chartered on two other Maersk services.

Agreement No.: 012108-003.

Title: The World Liner Data Agreement.

Parties: ANL Container Line Pty Ltd.; A.P. Moller-Maersk A/S; CMA CGM S.A.; Compania Chilena de Navegacion Interoceanica S.A.; Compania Sud Americana de Vapores S.A.; Evergreen Line Joint Service Agreement; Hamburg-Sud; Hapag-Lloyd AG; Hanjin Shipping Company, Ltd; Hyundai Merchant Marine Co., Ltd.; Independent Container Line Ltd.; Mediterranean Shipping Company S.A.; Orient Overseas Container Line Ltd.; Turkon Konteyner Tasimacilik ve Denizcilik A.S.; and United Arab Shipping Company S.A.G.

Filing Party: Wayne Rohde, Esq.; Cozen O'Connor; 627 I Street NW.; Suite 1100; Washington, DC 20006.

Synopsis: The amendment would add Zim Integrated Shipping Services Limited as a party to the Agreement.

Agreement No.: 012208.

Title: Hoegh/Inarme Space Charter Agreement.

Parties: Hoegh Autoliners AS and Industria Armamento Meridionale S.P.A. (Inarme)

Filing Party: Wayne R. Rohde, Esq.; Cozen O'Connor; 1627 I Street NW. Suite 1100; Washington, DC 20006.

Synopsis: The agreement authorizes Hoegh to charter space to Inarme in the trade from Spain to the U.S. East and Gulf Coasts.

Agreement No.: 012209.

Title: APL/Maersk Line Slot Charter Agreement.

Parties: American President Lines, Ltd. and APL Co. Pte, Ltd.; and A.P. Moller-Maersk A/S trading under the name Maersk Line

Filing Party: Eric. C. Jeffrey, Esq.; Goodwin Procter LLP; 901 New York Avenue NW.; Washington, DC 20001.

Synopsis: The agreement authorizes APL to charter space to Maersk in the trade between the U.S. East Coast, on the one hand, and North Europe and Central America, on the other hand.

By Order of the Federal Maritime Commission.
Dated: May 31, 2013.
Rachel E. Dickon,
Assistant Secretary.

[FR Doc. 2013-13328 Filed 6-4-13; 8:45 am]

BILLING CODE P